ENVIRONMENTAL PROTECTION AGENCY

[EPA-HQ-OECA-2009-0280; FRL-9192-5]

Agency Information Collection Activities; Submission to OMB for Review and Approval; Comment Request; Annual Public Water System Compliance Report (Reinstatement); EPA ICR No. 1812.04 OMB Control No. 2020-0020

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 23, 2010.

ADDRESSES: Submit your comments, referencing Docket ID No. EPA-HQ-OECA-2009-0280, to (1) EPA online using http://www.regulations.gov (our preferred method), by e-mail to docket.oeca@epa.gov, or by mail to: EPA Docket Center, Environmental Protection Agency, Enforcement and Compliance Docket Center (EPA/DC), Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Joyce Chandler, Compliance Assurance & Sector Division, Office of Compliance, Mailcode 2224A, Environmental Protection Agency, 1200 Pennsylvania Ave., NW., Washington, DC 20460; telephone number: 202-564-7073; fax number: 202-564-7083; e-mail address: chandler.joyce@epa.gov.

SUPPLEMENTARY INFORMATION: EPA has submitted the following ICR to OMB for review and approval according to the procedures prescribed in 5 CFR 1320.12. On July 2, 2009 (74 FR 31730), EPA sought comments on this ICR pursuant to 5 CFR 1320.8(d). EPA received no comments. Any additional comments on this ICR should be submitted to EPA and OMB within 30 days of this notice.

EPA has established a public docket for this ICR under Docket ID No. EPA-HQ-OECA-2009-0280, which is available for online viewing at http://www.regulations.gov, or in person viewing at the Enforcement and Compliance Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Enforcement and Compliance Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Annual Public Water System Compliance Report (Reinstatement).

ICR numbers: EPA ICR No. 1812.04, OMB Control No. 2020-0020.

ICR Status: This is a request to reinstate an ICR that expired on June 30, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 1414 (c)(3)(A) of the Safe Drinking Water Act requires that each state (a term that includes states, commonwealths and territories) that has primary enforcement authority under the Act shall prepare, make readily available to the public, and submit to the Administrator of EPA, an annual report of violations of national primary drinking water regulations in the state. These Annual State Public Water System Compliance Reports are to include violations of maximum contaminant levels, treatment requirements, variances and exemptions, and monitoring requirements determined to be significant by the Administrator after consultation with the states. To minimize a state's burden in preparing its annual statutorily-required report, EPA issued guidance that explains what Section 1414(c)(3)(A) requires and provides model language and reporting templates. EPA also annually makes available to the states a computer query that generates for each state (from information states are already separately required to submit to EPA's national database on a quarterly basis) the required violations information in a table consistent with the reporting template in EPA's guidance.

Burden Statement: The annual public reporting and recordkeeping burden for this collection of information is estimated to average 80 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State, local and/or Tribal Governments

Estimated Number of Respondents: 55.

Frequency of Response: Yearly.

Estimated Total Annual Hour Burden: 4,400.

Estimated Total Annual Cost: $232,303, includes $0 annualized capital or O&M costs.

Changes in the Estimates: There is a decrease of 80 hours in the total estimated burden currently identified in the OMB Inventory of Approved ICR Burdens. This decrease is due to miscalculating the number of states required to submit reports. Wyoming was counted in the previous ICR as a respondent although it doesn't have primacy for the drinking water program and the US EPA submits its annual report. The number of respondents should be fifty-five entities (49 states, 5 territories and one tribe). The change is an adjustment to the estimates

Dated: August 18, 2010.
Joseph A. Sierra,
Acting Director, Collection Strategies Division.

[FR Doc. 2010-20994 Filed 8-23-10; 8:45 am]

BILLING CODE 6560-50-P